DEPARTMENT OF COMMERCE

National Oceanic and Atmospheric Administration

50 CFR Part 648

[Docket No. 0910051338-0151-02]

RIN 0648-XA304

Fisheries of the Northeastern United States; Northeast Multispecies Fishery; Trip Limit Adjustments for the Common Pool Fishery

AGENCY: National Marine Fisheries Service (NMFS), National Oceanic and Atmospheric Administration (NOAA), Commerce.

ACTION: Temporary rule; inseason adjustment of landing limits.

SUMMARY: NMFS increases the possession limit for George's Bank (GB) cod, Cape Cod (CC)/Gulf of Maine (GOM) yellowtail flounder, and Southern New England (SNE)/Mid-Atlantic (MA) yellowtail flounder, and reduces the trip limit GOM cod and GOM winter flounder for Northeast (NE) multispecies common pool vessels for the 2010 fishing year (FY), through April 30, 2011. This action is authorized under the authority of the Magnuson-Stevens Fishery Conservation and Management Act, and by the regulations implementing Amendment 16 and Framework Adjustment 44 to the NE Multispecies Fishery Management Plan (FMP). The action is intended to facilitate the harvest of GB cod, CC/GOM yellowtail flounder, and SNE/MA yellowtail to allow the total catch of these stocks to approach the pertinent common pool sub-annual catch limits (sub-ACLs). This action is also intended to reduce catch rates of GOM cod and GOM winter flounder by NE common pool vessels and minimize additional overharvest of these stocks relative to the pertinent common pool sub-ACLs.

DATES: The trip limit increases for GB cod and SNE/MA and CC/GOM yellowtail flounder are effective March 31, 2011, through April 30, 2011. The trip limits reductions for GOM cod and GOM winter flounder are effective April 5, 2011, through April 30, 2011.

FOR FURTHER INFORMATION CONTACT: Sarah Heil, Fishery Policy Analyst, (978) 281-9257, fax (978) 281-9135.

SUPPLEMENTARY INFORMATION: Regulations governing the NE multispecies fishery are found at 50 CFR 648 subpart F. The regulations at § 648.86(o) authorize the NE Regional Administrator (RA) to adjust the possession limits for common pool vessels in order to optimize the harvest of NE regulated multispecies by preventing the overharvest or underharvest of the pertinent common pool sub-ACLs. For FY 2010, the common pool sub-ACLs for GB cod, GOM cod, CC/GOM yellowtail flounder, SNE/MA yellowtail flounder, and GOM winter flounder are: 128 mt (282,192 lb); 240 mt (529,109 lb); 50 mt (110,231 lb); 75 mt (165,347 lb), and 25 mt (55,116 lb), respectively. The current possession limit for GB cod is 2,000 lb (907.2 kg) per day-at-sea (DAS) up to 20,000 lb (9,071.8 kg) per trip, and the current possession limit for CC/GOM yellowtail flounder and SNE/MA yellowtail flounder is 250 lb (113.4 kg) per DAS up to 1,500 lb (680.4 kg) per trip. The current possession limits for GOM cod and GOM winter flounder are: 100 lb (45.4 kg) per DAS up to 1,000 lb (453.6 kg) per trip and 250 lb (113.4 kg) per trip, respectively.

The initial limit for GOM cod set by Amendment 16 was 800 lb (362.9 kg) per DAS up to 4,000 lb (1,814.5 kg) per trip. An inseason action published in the Federal Register on May 27, 2010 (75 FR 29678), reduced the common pool trip limits for five stocks: GOM haddock, GB haddock, GOM winter flounder, GB winter flounder, and GB yellowtail flounder. A subsequent action (75 FR 44924, July 30, 2010) reduced the trip limit for GOM cod to 200 lb (90.7 kg) per DAS up to 1,000 lb (453.6 kg) per trip and imposed a gear restriction in the U.S./Canada Management Area to reduce catch of GB yellowtail flounder. A September 2, 2010, inseason action (75 FR 53872) imposed 2:1 differential DAS counting in the Inshore GOM, Offshore GOM, Inshore GB, and Offshore GB Differential DAS Areas to reduce effort on GOM cod, white hake, and witch flounder. A fourth action (75 FR 59154, September 27, 2010) further reduced the GOM cod trip limit to 100 lb (45.4 kg) per DAS. No inseason adjustments have been made to the possession limits for GB cod, CC/GOM yellowtail flounder, or SNE/MA yellowtail flounder for FY 2010.

As of March 24, 2011, the best available catch information, including Vessel Monitoring System (VMS) reports and dealer reports, indicated that approximately 44 percent of the GB cod, 67 percent of the CC/GOM yellowtail flounder, 24 percent of the SNE/MA yellowtail flounder, 102 percent of the GOM cod, and 100 percent of the GOM winter flounder common pool sub-ACLs has been harvested. Based on this information, the RA determined that additional measures are needed to facilitate the harvest of GB cod, CC/GOM yellowtail flounder, and SNE/MA yellowtail flounder to help allow the total catch of these stocks by common pool vessels to approach the pertinent common pool sub-ACLs. Conversely, the RA determined that additional measures are needed to slow catch rates of GOM cod and GOM winter flounder by common pool vessels. Therefore, the trip limit for GB cod is increased to 3,000 lb (1,360.8 kg) per DAS up to 30,000 lb (13,607.8 kg) per trip, and the trip limit for CC/GOM yellowtail flounder and SNE/MA yellowtail flounder is increased to 750 lb (340.2 kg) per DAS up to 3,000 lb (1,360.8 kg) per trip for common pool vessels, effective March 31, 2011 through April 30, 2011. In addition, the trip limit for GOM cod is reduced to 100 lb (45.4 kg) per trip, and the trip limit for GOM winter flounder is reduced to 100 lb (45.4 kg) per trip for common pool vessels, effective April 5, 2011, through April 30, 2011. This action does not change the current cod trip limit for vessels with a Handgear A (50 lb (22.7 kg) per trip), Handgear B (25 lb (11.3 kg) per trip), or Small Vessel Category (75 lb (34.0 kg) per trip of cod within the limit of 300 lb (136.1 kg) of cod, haddock, and yellowtail flounder combined) permit. This action does change the GOM winter flounder trip limit for vessels with a Handgear A, Handgear B, or Small Vessel Category permit to 100 lb (45.4 kg) per trip). The trip limit adjustments implemented through this action are detailed in the table below. Catch will continue to be monitored through dealer-reported landings, VMS catch reports, and other available information, and if necessary, additional adjustments to common pool management measures may be made.

Stock | Old possession/trip limit | New possession/trip limit
CC/GOM yellowtail flounder | 250 lb (113.4 kg) per DAS up to 1,500 lb (680.4 kg) per trip | 750 lb (340.2 kg) per DAS up to 3,000 lb (1,360.8 kg) per trip.
SNE yellowtail flounder | 250 lb (113.4 kg) per DAS up to 1,500 lb (680.4 kg) per trip | 750 lb (340.2 kg) per DAS up to 3,000 lb (1,360.8 kg) per trip.
GB cod | 2,000 lb (907.2 kg) per DAS up to 20,000 lb (9,071.8 kg) per trip | 3,000 lb (1,360.8 kg) per DAS up to 30,000 lb (13,607.8 kg) per trip.
GOM cod | 100 lb (45.4 kg) per DAS up to 1,000 lb (453.6 kg) per trip | 100 lb (45.4 kg) per trip.
GOM winter flounder | 250 lb (113.4 kg) per trip | 100 lb (45.4 kg) per trip.

Classification

This action is authorized by 50 CFR part 648 and is exempt from review under Executive Order 12866.

The Assistant Administrator for Fisheries, NOAA finds good cause pursuant to 5 U.S.C. 553(b)(3)(B) and (d)(3) to waive prior notice and the opportunity for public comment, as well as delayed effectiveness, for this inseason adjustment because notice, comment, and a delayed effectiveness would be impracticable and contrary to the public interest. The regulations at § 648.86(o) grant the RA authority to adjust the NE multispecies possession limits for common pool vessels in order to prevent the overharvest or underharvest of the pertinent common pool sub-ACLs. This action increases the possession limit for GB cod, CC/GOM yellowtail flounder, and SNE/MA yellowtail flounder to facilitate the harvest of these stocks, as well as reduces the trip limits for GOM cod and GOM winter flounder to minimize overharvest of the common pool sub-ACLs for these stocks. Catch data upon which this action is based have only recently become available. The time necessary to provide for prior notice and comment, and delayed effectiveness for this action, would prevent NMFS from implementing the necessary possession limit adjustments in a timely manner. A resulting delay in the liberalization of possession limits would unnecessarily restrain catch rates for GB cod, CC/GOM yellowtail flounder, and SNE/MA yellowtail flounder, thereby preventing the total catch of these stocks to approach the pertinent common pool sub-ACLs. In addition, a resulting delay in the curtailment of the catch rates of GOM cod and GOM winter flounder could increase the amount of overharvest of GOM cod, or cause the GOM winter flounder sub-ACL to be exceeded, thereby undermining the conservation objectives of the FMP.

Authority: 16 U.S.C. 1801 et seq.

Dated: March 31, 2011.
Margo Schulze-Haugen,
Acting Director, Office of Sustainable Fisheries, National Marine Fisheries Service.

[FR Doc. 2011-8056 Filed 3-31-11; 4:15 pm]

BILLING CODE 3510-22-P